DEPARTMENT OF ENERGY

Federal Energy Regulatory Commission

Combined Notice of Filings #1

Take notice that the Commission received the following electric corporate filings:

Docket Numbers: EC20-96-000.

Applicants: NRG Energy, Inc., Direct Energy Marketing Inc., Direct Energy Services, LLC, Direct Energy Business, LLC, Direct Energy Business Marketing, LLC, Gateway Energy Services Corporation.

Description: Supplement to August 31, 2020 Application for Authorization Under Section 203 of the Federal Power Act, et al. of NRG Energy, Inc., et al.

Filed Date: 9/30/20.

Accession Number: 20200930-5218.

Comments Due: 5 p.m. ET 10/15/20.

Docket Numbers: EC20-107-000.

Applicants: Nine Mile Point Nuclear Station, LLC.

Description: Application for Authorization Under Section 203 of the Federal Power Act, et al. of Nine Mile Point Nuclear Station, LLC.

Filed Date: 9/30/20.

Accession Number: 20200930-5222.

Comments Due: 5 p.m. ET 10/21/20.

Docket Numbers: EC21-3-000.

Applicants: Desert Harvest, LLC, Desert Harvest II LLC, Maverick Solar, LLC, Maverick Solar 4, LLC.

Description: Application for Authorization Under Section 203 of the Federal Power Act, et al. of Desert Harvest, LLC, et al.

Filed Date: 10/1/20.

Accession Number: 20201001-5235.

Comments Due: 5 p.m. ET 10/22/20.

Take notice that the Commission received the following electric rate filings:

Docket Numbers: ER20-254-002.

Applicants: PJM Interconnection, L.L.C., Wabash Valley Power Association, Inc.

Description: Compliance filing: Compliance Filing per Commission's 1/16/2020 Order in Docket No. ER20-254-001 to be effective 1/1/2021.

Filed Date: 10/1/20.

Accession Number: 20201001-5113.

Comments Due: 5 p.m. ET 10/22/20.

Docket Numbers: ER20-256-002.

Applicants: PJM Interconnection, L.L.C., Wabash Valley Power Association, Inc.

Description: Compliance filing: Compliance Filing per Commission's 1/16/2020 in Docket No. ER20-256-001 to be effective 1/1/2021.

Filed Date: 10/1/20.

Accession Number: 20201001-5114.

Comments Due: 5 p.m. ET 10/22/20.

Docket Numbers: ER20-3041-001.

Applicants: Public Service Company of New Mexico.

Description: Tariff Amendment: PNM EIM OATT Tariff Changes Attachment S to be effective 4/1/202.1.

Filed Date: 10/1/20.

Accession Number: 20201001-5131.

Comments Due: 5 p.m. ET 10/22/20.

Docket Numbers: ER20-3044-000.

Applicants: Southwestern Electric Power Company.

Description: § 205(d) Rate Filing: NTEC PSA to be effective 1/1/2020.

Filed Date: 9/30/20.

Accession Number: 20200930-5183.

Comments Due: 5 p.m. ET 10/21/20.

Docket Numbers: ER20-3045-000.

Applicants: Southwestern Electric Power Company.

Description: § 205(d) Rate Filing: Prescott PSA to be effective 1/1/2020.

Filed Date: 9/30/20.

Accession Number: 20200930-5185.

Comments Due: 5 p.m. ET 10/21/20.

Docket Numbers: ER20-3046-000.

Applicants: PJM Interconnection, L.L.C., Indiana Michigan Power Company, American Electric Power Service Corporation.

Description: § 205(d) Rate Filing: AEP submits ILDSA SA No. 5120 and Union St Facilities Agreement to be effective 12/1/2020.

Filed Date: 9/30/20.

Accession Number: 20200930-5190.

Comments Due: 5 p.m. ET 10/21/20.

Docket Numbers: ER21-1-000.

Applicants: Golden Spread Electric Cooperative, Inc.

Description: § 205(d) Rate Filing: WPC SPEC Ex A and C Modification Filing to be effective 11/1/2020.

Filed Date: 10/1/20.

Accession Number: 20201001-5083.

Comments Due: 5 p.m. ET 10/22/20.

Docket Numbers: ER21-2-000.

Applicants: AEP Texas Inc.

Description: § 205(d) Rate Filing: AEPTX-Monte Alto Windpower 1st Amend and Restated Generation Interconnection Agr to be effective 9/25/2020.

Filed Date: 10/1/20.

Accession Number: 20201001-5093.

Comments Due: 5 p.m. ET 10/22/20.

Docket Numbers: ER21-3-000.

Applicants: Southwest Power Pool, Inc.

Description: Baseline eTariff Filing: Western Energy Imblance Service Tariff to be effective 2/1/2021.

Filed Date: 10/1/20.

Accession Number: 20201001-5095.

Comments Due: 5 p.m. ET 10/22/20.

Docket Numbers: ER21-4-000.

Applicants: Southwest Power Pool, Inc.

Description: Baseline eTariff Filing: Western Energy Imbalance Service Rate Schedule Tariff to be effective 2/1/2021.

Filed Date: 10/1/20.

Accession Number: 20201001-5096.

Comments Due: 5 p.m. ET 10/22/20.

Docket Numbers: ER21-5-000.

Applicants: AEP Texas Inc.

Description: § 205(d) Rate Filing: AEPTX-Concho Valley Solar Generation Interconnection Agreement to be effective 9/28/2020.

Filed Date: 10/1/20.

Accession Number: 20201001-5099.

Comments Due: 5 p.m. ET 10/22/20.

Docket Numbers: ER21-6-000.

Applicants: Muscle Shoals Solar, LLC.

Description: Baseline eTariff Filing: baseline new to be effective 12/1/2020.

Filed Date: 10/1/20.

Accession Number: 20201001-5196.

Comments Due: 5 p.m. ET 10/22/20.

Docket Numbers: ER21-7-000.

Applicants: PJM Interconnection, L.L.C.

Description: § 205(d) Rate Filing: Notice of Cancellation of ICSA No. 3267; Queue No. O09 to be effective 8/28/2020.

Filed Date: 10/1/20.

Accession Number: 20201001-5200.

Comments Due: 5 p.m. ET 10/22/20.

Docket Numbers: ER21-8-000.

Applicants: Northern States Power Company, a Wisconsin corporation.

Description: § 205(d) Rate Filing: 2020-10-01_NSPW-NWEC-Emergency Tie-Luck-165-0.0.0 to be effective 10/2/2020.

Filed Date: 10/1/20.

Accession Number: 20201001-5204.

Comments Due: 5 p.m. ET 10/22/20.

Docket Numbers: ER21-9-000.

Applicants: Henrietta D Energy Storage LLC.

Description: Baseline eTariff Filing: baseline new to be effective 12/1/2020.

Filed Date: 10/1/20.

Accession Number: 20201001-5205.

Comments Due: 5 p.m. ET 10/22/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2020.
Nathaniel J. Davis, Sr.,
Deputy Secretary.

[FR Doc. 2020-22148 Filed 10-6-20; 8:45 am]

BILLING CODE 6717-01-P